DEPARTMENT OF ENERGY

Federal Energy Regulatory Commission

[Project No. 14626-000]

GreenVolt Hydro, LLC; Notice of Preliminary Permit Application Accepted for Filing and Soliciting Comments, Motions To Intervene, and Competing Applications

On June 20, 2014, GreenVolt Hydro, LLC filed an application for a preliminary permit, pursuant to section 4(f) of the Federal Power Act (FPA), proposing to study the feasibility of the Two Girls Creek Hydroelectric Project (project) to be located on Two Girls Creek near Sweet Home in Linn County, Oregon. The sole purpose of a preliminary permit, if issued, is to grant the permit holder priority to file a license application during the permit term. A preliminary permit does not authorize the permit holder to perform any land-disturbing activities or otherwise enter upon lands or waters owned by others without the owners' express permission.

The proposed project would consist of the following new facilities: (1) A weir with screened intake; (2) a 19,365-foot-long, 30 to 36-inch-diameter high density polyethylene (HDPE) penstock; (3) a 50 feet by 40 feet concrete block powerhouse with a single Pelton turbine/generator unit rated for 5 megawatt at 1,606 feet of net head; (4) a 1,000-foot-long, 60-inch-diameter HDPE tailrace conduit; (5) an underground 7.2-mile-long, 12-kilovolt (kV) transmission line connection to an existing transmission line (the point of interconnection); (6) a 40-feet-wide right of way access road; and (7) appurtenant facilities. The estimated annual generation of the project would be 36.87 gigawatt-hours.

Applicant Contact: Mr. Scott Shankland, Manager, GreenVolt Hydro, LLC, 52 Galen Street, Lake Oswego, Oregon 97035; phone: (503) 504-2660.

FERC Contact: Kim Nguyen; email: kim.nguyen@ferc.gov; phone: (202) 502-6105.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14626-000.

More information about this project, including a copy of the application, can be viewed or printed on the “eLibrary” link of Commission's Web site at http://www.ferc.gov/docs-filing/elibrary.asp. Enter the docket number (P-14626) in the docket number field to access the document. For assistance, contact FERC Online Support.

Dated: September 4, 2014.
Kimberly D. Bose,
Secretary.

[FR Doc. 2014-21741 Filed 9-11-14; 8:45 am]

BILLING CODE 6717-01-P